DEPARTMENT OF DEFENSE

Office of the Secretary

[Docket ID: DoD-2013-OS-0202]

Privacy Act of 1974; System of Records

AGENCY: Office of the Secretary of Defense, DoD.

ACTION: Notice to alter a System of Records.

SUMMARY: The Office of the Secretary of Defense proposes to alter a system of records, DA&M 01, entitled “Civil Liberties Program Case Management System”, in its inventory of record systems subject to the Privacy Act of 1974, as amended. This system will receive, log and track the processing of allegations of civil liberties violations by the DoD, its civilian employees, members of the Military Services, DoD contractors, or others acting under the authority of the DoD and document the review, investigation, and redress provided.

DATES: This proposed action will be effective on November 4, 2013 unless comments are received which result in a contrary determination. Comments will be accepted on or before November 4, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site http://dpclo.defense.gov/privacy/SORNs/component/osd/index.html.

The proposed system report, as required by 5 U.S.C. 552a(r) of the Privacy Act of 1974, as amended, was submitted on September 26, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 30, 2013.
Aaron Siegel,
Alternate OSD Federal Register Liaison Officer, Department of Defense.

DA&M 01

System name:

Civil Liberties Program Case Management System (January 19, 2011, 76 FR 3099).

Changes:

System location:

Delete entry and replace with “Defense Privacy and Civil Liberties Office, 241 18th Street South, Suite 101, Arlington, VA 22202-3405. Records are maintained by offices within the Office of the Secretary of Defense (OSD) and Joint Staff (JS). For a complete list of these offices contact the system manager.”

* * * * *

Authority for maintenance of the system:

Delete entry and replace with “10 U.S.C. 113, Secretary of Defense; 42 U.S.C. 2000ee-1, Privacy and Civil Liberties Officers; and DoD Instruction 1000.29, DoD Civil Liberties Program.”

* * * * *

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

To the Office of Management and Budget (OMB), the Department of Justice (DOJ), or the Office of Special Counsel (OSC), to obtain advice regarding statutory and other requirements related to civil liberties.

The DoD Blanket Routine Uses set forth at the beginning of the OSD compilation of systems of records notices may apply to this system.”

* * * * *

System manager(s) and address:

Delete entry and replace with “Director, Defense Privacy and Civil Liberties Office, 241 18th Street South, Suite 101, Arlington, VA 22202-3404.”

Notification procedure:

Delete entry and replace with “Individuals seeking to determine if information about themselves is containing in this system should address written inquiries to the Director, Defense Privacy and Civil Liberties Office, 241 18th Street South, Suite 101, Arlington, VA 22202-3405.

For verification purposes, the requestor should provide his/her full name, home or work address, home or work telephone number, email addresses, Military Service or DoD component involved, and case number.”

* * * * *

[FR Doc. 2013-24213 Filed 10-2-13; 8:45 am]

BILLING CODE 5001-06-P